DEPARTMENT OF TRANSPORTATION

Federal Aviation Administration

14 CFR Part 39

[Docket No. FAA-2010-0222; Directorate Identifier 2008-NM-012-AD; Amendment 39-16387; AD 2010-16-10]

RIN 2120-AA64

Airworthiness Directives; BAE Systems (Operations) Limited Model Avro 146-RJ and BAe 146 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

A potential fleet wide problem has been identified regarding the interchanging of wing links on all BAe 146 & AVRO 146-RJ aircraft during scheduled maintenance. Some operators erroneously believed that these parts were interchangeable. The effects of changing winglinks has resulted in either a shorter or longer wing link being fitted, which introduces local stresses in the wing top and bottom surfaces local to rib 2, wing links and wing link fitting attachment and the fuselage local to Frames 26 and 29. This condition, if not corrected, could result in a reduction of structural integrity of the fuselage/wing attachment with possible catastrophic consequences.

* * * * *

The unsafe condition could result in loss of a wing or controllability of the airplane. We are issuing this AD to require actions to correct the unsafe condition on these products.

DATES: This AD becomes effective September 17, 2010.

The Director of the Federal Register approved the incorporation by reference of a certain publication listed in this AD as of September 17, 2010.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

We issued a notice of proposed rulemaking (NPRM) to amend 14 CFR part 39 to include an AD that would apply to the specified products. That NPRM was published in the Federal Register on March 15, 2010 (75 FR 12158). That NPRM proposed to correct an unsafe condition for the specified products. The MCAI states:

A potential fleet wide problem has been identified regarding the interchanging of wing links on all BAe 146 & AVRO 146-RJ aircraft during scheduled maintenance. Some operators erroneously believed that these parts were interchangeable. The effects of changing winglinks has resulted in either a shorter or longer wing link being fitted, which introduces local stresses in the wing top and bottom surfaces local to rib 2, wing links and wing link fitting attachment and the fuselage local to Frames 26 and 29. This condition, if not corrected, could result in a reduction of structural integrity of the fuselage/wing attachment with possible catastrophic consequences.

For the reasons described above, the present Airworthiness Directive (AD) requires the accomplishment of inspections and rectification actions, as necessary.

The unsafe condition could result in loss of a wing or controllability of the airplane. The inspections include inspecting wing links for incorrect part numbers (i.e., parts that are not original), inspecting to determine wing geometry measurements, and inspecting the wing link, bores, bolts, and nuts for corrosion. Corrective actions include installing wing-to-fuselage fairings and repairing. You may obtain further information by examining the MCAI in the AD docket.

Comments

We gave the public the opportunity to participate in developing this AD. We received no comments on the NPRM or on the determination of the cost to the public.

Explanation of Change to Applicability

We have revised the applicability in paragraph (c) of this final rule to identify model designations as published in the most recent type certificate data sheet for the affected models.

Conclusion

We reviewed the available data and determined that air safety and the public interest require adopting the AD with the change described previously. We determined that this change will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a Note within the AD.

Costs of Compliance

We estimate that this AD will affect 1 product of U.S. registry. We also estimate that it will take about 180 work-hours per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be $15,300.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-16-10 BAE Systems (Operations) Limited: Amendment 39-16387. Docket No. FAA-2010-0222; Directorate Identifier 2008-NM-012-AD.

Effective Date

(a) This airworthiness directive (AD) becomes effective September 17, 2010.

Affected ADs

(b) None.

Applicability

(c) This AD applies to BAE Systems (Operations) Limited Model BAe 146-100A, -200A, and -300A airplanes, and Avro 146-RJ70A, 146-RJ85A, and 146-RJ100A airplanes; all serial numbers; certificated in any category; as identified in paragraph 1.A.(1) of BAE Systems (Operations) Limited Inspection Service Bulletin ISB.53-175, Revision 1, dated April 2, 2007.

Subject

(d) Air Transport Association (ATA) of America Code 57: Wings.

Reason

(e) The mandatory continuing airworthiness information (MCAI) states:

A potential fleet wide problem has been identified regarding the interchanging of wing links on all BAe 146 & AVRO 146-RJ aircraft during scheduled maintenance. Some operators erroneously believed that these parts were interchangeable. The effects of changing wing links has resulted in either a shorter or longer wing link being fitted, which introduces local stresses in the wing top and bottom surfaces local to rib 2, wing links and wing link fitting attachment and the fuselage local to Frames 26 and 29. This condition, if not corrected, could result in a reduction of structural integrity of the fuselage/wing attachment with possible catastrophic consequences.

For the reasons described above, the present Airworthiness Directive (AD) requires the accomplishment of inspections and rectification actions, as necessary.

The unsafe condition could result in loss of a wing or controllability of the airplane. The inspections include inspecting wing links for incorrect part numbers (i.e., parts that are not original), inspecting to determine wing geometry measurements, and inspecting the wing link, bores, bolts, and nuts for corrosion. Corrective actions include installing wing-to-fuselage fairings and repairing.

Compliance

(f) You are responsible for having the actions required by this AD performed within the compliance times specified, unless the actions have already been done.

Actions

(g) Do the following actions.

(1) For airplanes subject to maintenance review board report (MRBR) requirements: Within 30 days after the effective date of this AD, revise the supplemental structural inspection (SSI) portion of the airplane inspection schedule, in accordance with paragraph 1.D.(2) of BAE Systems (Operations) Limited Inspection Service Bulletin ISB.53-175, Revision 1, dated April 2, 2007. Do the initial inspection at the applicable time, and repeat at the applicable intervals, as specified in Appendix 3 of BAE Systems (Operations) Limited Inspection Service Bulletin ISB.53-175, Revision 1, dated April 2, 2007. Where Appendix 3 of BAE Systems (Operations) Limited Inspection Service Bulletin ISB.53-175, Revision 1, dated April 2, 2007, does not specify a compliance time in either flight cycles or in flight hours, use flight cycles.

(2) For airplanes subject to MRBR requirements: Accomplishing the inspections and all applicable corrective actions specified in paragraph 1.D.(3) of BAE Systems (Operations) Limited Inspection Service Bulletin ISB.53-175, Revision 1, dated April 2, 2007, terminates the revisions to the SSI portion of the airplane inspection schedule incorporated in accordance with paragraph (g)(1) of this AD, provided that if any corrosion is found during any inspection specified in “Part C” or “Part D” of paragraph 2.C. of BAE Systems (Operations) Limited Inspection Service Bulletin ISB.53-175, Revision 1, dated April 2, 2007, repair is accomplished before further flight using a method approved by the Manager, International Branch, ANM 116, Transport Airplane Directorate, FAA, or EASA (or its delegated agent).

(3) For operational airplanes subject to MRBR-to-supplemental-structural-inspection-document (SSID) transition requirements or to SSID requirements: Within 5,000 flight cycles after the effective date of this AD, do the inspections and all applicable corrective actions, in accordance with paragraph 2.C. of the Accomplishment Instructions of BAE Systems (Operations) Limited Inspection Service Bulletin ISB.53-175, Revision 1, dated April 2, 2007, except if any corrosion is found during any inspection specified in “Part C” or “Part D” of paragraph 2.C. of BAE Systems (Operations) Limited Inspection Service Bulletin ISB.53-175, Revision 1, dated April 2, 2007, repair must be accomplished using a method approved by the Manager, International Branch, ANM 116, Transport Airplane Directorate, FAA, or EASA (or its delegated agent). Do all applicable corrective actions before further flight, except that replacements of all the wing links that are not within the specified tolerance must be done before the airplane reaches its MRBR airframe life limit.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

(4) For any inspection done in accordance with paragraph (g)(2) or (g)(3) of this AD: Send reports to BAE Systems, Customer Liaison, Customer Support (Building 37), BAE Systems (Operations) Limited, Prestwick International Airport, Ayrshire, KA9 2RW, Scotland; fax +44 (0) 1292 675432; e-mail raengliason@baesystems.com; at the applicable time specified in paragraph (g)(4)(i) or (g)(4)(ii) of this AD. The report must include the inspection results, a description of any discrepancies found, the airplane serial number, and the number of landings and flight hours on the airplane.

(i) If the inspection was done on or after the effective date of this AD: Submit the report within 30 days after the inspection.

(ii) If the inspection was done before the effective date of this AD: Submit the report within 30 days after the effective date of this AD.

(5) For airplanes that are non-operational as of the effective date of this AD and that are subject to MRBR-to-SSID transition requirements or to SSID requirements: Before returning any airplane to service, do the inspections and all applicable corrective actions, in accordance with paragraph 2.C. of the Accomplishment Instructions of BAE Systems (Operations) Limited Inspection Service Bulletin ISB.53-175, Revision 1, dated April 2, 2007, except if any corrosion is found during any inspection specified in “Part C” or “Part D” of paragraph 2.C. of BAE Systems (Operations) Limited Inspection Service Bulletin ISB.53-175, Revision 1, dated April 2, 2007, repair must be accomplished using a method approved by the Manager, International Branch, ANM-116, Transport Airplane Directorate, FAA, or EASA (or its delegated agent).

(6) Actions accomplished before the effective date of this AD in accordance with BAE Systems (Operations) Limited Inspection Service Bulletin ISB.53-175, dated December 21, 2006, are considered acceptable for compliance with the corresponding action specified in this AD.

FAA AD Differences

Note 2: This AD differs from the MCAI and/or service information as follows: The MCAI does not specify a corrective action if corrosion is found during accomplishment of the actions specified in “Part C” and “Part D” of paragraph 2.C. of BAE Systems (Operations) Limited Inspection Service Bulletin ISB.53-175, Revision 1, dated April 2, 2007. This AD requires that if any corrosion is found, a repair must be done in accordance with a method approved by the FAA or EASA (or its delegated agent).

Other FAA AD Provisions

(h) The following provisions also apply to this AD:

(1) Alternative Methods of Compliance (AMOCs): The Manager, International Branch, ANM-116, FAA, has the authority to approve AMOCs for this AD, if requested using the procedures found in 14 CFR 39.19. Send information to ATTN: Todd Thompson, Aerospace Engineer, International Branch, ANM-116, Transport Airplane Directorate, FAA, 1601 Lind Avenue, SW., Renton, Washington 98057-3356; telephone (425) 227-1175; fax (425) 227-1149. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI EASA Airworthiness Directive 2008-0003, dated January 8, 2008; and BAE Systems (Operations) Limited Inspection Service Bulletin ISB.53-175, Revision 1, dated April 2, 2007; for related information.

Material Incorporated by Reference

(j) You must use BAE Systems (Operations) Limited Inspection Service Bulletin ISB.53-175, Revision 1, dated April 2, 2007, as applicable, to do the actions required by this AD, unless the AD specifies otherwise.

(1) The Director of the Federal Register approved the incorporation by reference of this service information under 5 U.S.C. 552(a) and 1 CFR part 51.

(2) For service information identified in this AD, contact BAE Systems (Operations) Limited, Customer Information Department, Prestwick International Airport, Ayrshire, KA9 2RW, Scotland, United Kingdom; telephone +44 1292 675207; fax +44 1292 675704; e-mail RApublications@baesystems.com; Internet http://www.baesystems.com/Businesses/RegionalAircraft/index.htm.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on July 28, 2010.
Ali Bahrami,
Manager, Transport Airplane Directorate, Aircraft Certification Service.

[FR Doc. 2010-19340 Filed 8-12-10; 8:45 am]

BILLING CODE 4910-13-P